DEPARTMENT OF COMMERCE

International Trade Administration

[C-570-183, C-552-846]

Thermoformed Molded Fiber Products From the People's Republic of China and the Socialist Republic of Vietnam: Postponement of Preliminary Determination in the Countervailing Duty Investigations

AGENCY: Enforcement and Compliance, International Trade Administration, Department of Commerce.

DATES: Applicable December 19, 2024.

FOR FURTHER INFORMATION CONTACT: Ashley Cossaart (the People's Republic of China) and Thomas Martin (Socialist Republic of Vietnam), AD/CVD Operations, OIV, Enforcement and Compliance, International Trade Administration, U.S. Department of Commerce, 1401 Constitution Avenue NW, Washington, DC 20230; telephone (202) 482-0462 and at (202) 482-3936, respectively.

SUPPLEMENTARY INFORMATION:

Background

On October 28, 2024, the U.S. Department of Commerce (Commerce) initiated a countervailing duty (CVD) investigation of imports of thermoformed molded fiber products (molded fiber products) from the People's Republic of China (China) and the Socialist Republic of Vietnam (Vietnam).¹ Currently, the preliminary determinations are due no later than January 2, 2025.

¹ See Thermoformed Molded Fiber Products from the People's Republic of China and the Socialist Republic of Vietnam: Initiation of Countervailing Duty Investigations, 89 FR 87556 (November 4, 2024) (Initiation Notice).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioners ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioners are Genera, Tellus Products, LLC, and the United Steel, Paper and Forestry, Rubber, Manufacturing, Energy, Allied Industrial and Service Workers International Union, AFL-CIO.

On December 6, 2024, the petitioners submitted a timely request that Commerce postpone the preliminary determination in these investigations.³ The petitioners stated that they request postponement to extend the deadline for the preliminary determinations in order to have an adequate opportunity to review the questionnaire responses of respondents and submit rebuttal factual information, and give Commerce adequate time to review the data provided in the questionnaire responses and issue supplemental questionnaires prior to its issuance of the preliminary determinations.⁴

³ See Petitioners' Letters, “Request to Extend the Deadline for the Preliminary Determination,” dated December 6, 2024.

⁴ Id.

In accordance with 19 CFR 351.205(e), the petitioners submitted their request for postponement of the preliminary determinations in these investigations 25 days or more before the scheduled date of the preliminary determinations and stated the reasons for their request. For the reasons stated above, and because there are no compelling reasons to deny the request, in accordance with section 703(c)(1)(A) of the Act, Commerce is postponing the deadline for these preliminary determinations to no later than 130 days after the date on which these investigations were initiated, i.e., March 7, 2025. Pursuant to section 705(a)(1) of the Act and 19 CFR 351.210(b)(1), the deadline for the final determinations of these investigations will continue to be 75 days after the date of these preliminary determinations.

This notice is issued and published pursuant to section 703(c)(2) of the Act and 19 CFR 351.205(f)(1).

Dated: December 12, 2024.
Abdelali Elouaradia,
Deputy Assistant Secretary for Enforcement and Compliance.

[FR Doc. 2024-30306 Filed 12-18-24; 8:45 am]

BILLING CODE 3510-DS-P